DEPARTMENT OF HEALTH AND HUMAN SERVICES

Centers for Disease Control and Prevention

Request for Nominations of Candidates To Serve on the Healthcare Infection Control Practices Advisory Committee (HICPAC)

The Centers for Disease Control and Prevention (CDC) is soliciting nominations for possible membership on the Healthcare Infection Control Practices Advisory Committee (HICPAC).

The Committee provides advice and guidance to the Secretary, Department of Health and Human Services (HHS); the Director, Centers for Disease Control and Prevention (CDC); Deputy Director, Office of Infectious Diseases (OID), CDC; the Director, National Center for Emerging and Zoonotic Infectious Diseases (NCEZID), CDC; and the Director, Division of Healthcare Quality Promotion (DHQP), NCEZID, CDC, regarding the practice of infection control and strategies for surveillance, prevention, and control of health care-associated infections, antimicrobial resistance and related events in settings where healthcare is provided, including hospitals, outpatient settings, long-term-care facilities, and home health agencies.

Nominations are sought for individuals with expertise and qualifications necessary to contribute to the accomplishment of HICPAC objectives.

The Secretary, HHS, acting through the Director, CDC, shall appoint to the advisory committee nominees with expertise to provide advice regarding the practice of health care infection control, strategies for surveillance and prevention and control of health care associated infections in United States health care facilities. Consideration is given to professional training and background, points of view represented, and upcoming issues to be addressed by the committee. Nominees may be invited to serve for four-year terms. The next cycle of selection of candidates will begin in the Winter of 2014, for selection of potential nominees to replace members whose terms will end on June 30, 2015.

Selection of members is based on candidates' qualifications to contribute to the accomplishment of HICPAC's objectives (http://www.cdc.gov/hicpac/about.html). The U.S. Department of Health and Human Services will give close attention to balanced geographic distribution and to minority and female representation so long as the effectiveness of the Committee is not impaired.

Appointments shall be made without discrimination on the basis of age, race, ethnicity, gender, sexual orientation, HIV status, disability, and cultural, religious, or socioeconomic status. Consideration is given to a broad representation of geographic areas within the U.S., with diverse representation of both genders, ethnic and racial minorities, and persons with disabilities. Nominees must be U.S. citizens, and cannot be full-time employees of the U.S. Government. Candidates should submit the following items:

• Current curriculum vitae, including complete contact information (name, affiliation, mailing address, telephone numbers, email address).

• At least one letter of recommendation stating the qualifications of the candidate from a person not employed by the U.S. Department of Health and Human Services. Candidates may submit letter(s) from current HHS employees if they wish, but at least one letter must be submitted by a person not employed by HHS.

Nominations should be submitted (postmarked or received) by September 30, 2014.

Electronic submissions: You may submit nominations, including attachments, electronically to hicpac@cdc.gov.

Regular, Express or Overnight Mail: Written nominations may be submitted to the following addressee only: Erin Stone, M.S., HICPAC, Division of Healthcare Quality Promotion, NCEZID, CDC, 1600 Clifton Road NE., Mailstop A-07, Atlanta, Georgia 30333.

Telephone and facsimile submissions cannot be accepted. Nominations may be submitted by the candidate him- or herself, or by the person/organization recommending the candidate.

The Director, Management Analysis and Services Office, has been delegated the authority to sign Federal Register notices pertaining to announcements of meetings and other committee management activities, for both the Centers for Disease Control and Prevention and the Agency for Toxic Substances and Disease Registry.

Gary Johnson,
Acting Director, Management Analysis and Services Office, Centers for Disease Control and Prevention.

[FR Doc. 2014-19756 Filed 8-19-14; 8:45 am]

BILLING CODE 4163-18-P